DEPARTMENT OF HOMELAND SECURITY

Federal Emergency Management Agency

44 CFR Part 67

[Docket No. FEMA-B-7710]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act

This proposed rule is categorically excluded from the requirements of 44 CFR part 10, Environmental Consideration. An environmental impact assessment has not been prepared.

Regulatory Flexibility Act

As flood elevation determinations are not within the scope of the Regulatory Flexibility Act, 5 U.S.C. 601-612, a regulatory flexibility analysis is not required.

Regulatory Classification

This proposed rule is not a significant regulatory action under the criteria of section 3(f) of Executive Order 12866 of September 30, 1993, Regulatory Planning and Review, 58 FR 51735.

Executive Order 13132, Federalism

This proposed rule involves no policies that have federalism implications under Executive Order 13132.

Executive Order 12988, Civil Justice Reform

This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The table published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Del Norte County, California and Incorporated Areas
Middle Fork Smith River | At the Confluence with Smith River | None | +360 | Del Norte County (Unincorporated Areas).
| Approximately 1.8 miles Upstream of Horace Gasquet Memorial Bridge | None | +432
Smith River (Gasquet Reach)—North Fork Smith River | Approximately 300 feet Upstream of Mary Adams Memorial Road/US Highway 99 | None | +304 | Del Norte County (Unincorporated Areas).
| Approximately 4000 feet Upstream of Confluence With Middle Fork Smith River | None | +379
Smith River (Hiouchi Reach) | Approximately 2000 feet Upstream of U.S. Highway 101 | None | +47 | Del Norte County (Unincorporated Areas).
| Approximately 100 feet Downstream of South Fork Road | None | +152
* National Geodetic Vertical Datum.
# Depth in feet above ground.
+ North American Vertical Datum.
ADDRESSES
Del Norte County (Unincorporated Areas)
Maps are available for inspection at 981 H Street, Suite 110, Crescent City, CA 95531.
Send comments to The Honorable David Finigan, Chairperson, 981 H Street, Suite 200, Crescent City, CA 95531.
Hopkins County, Kentucky and Incorporated Areas
Clear Creek | Approximately 1450 feet downstream of KY 2171 | None | +399 | City of Earlington, Hopkins County (Unincorporated Areas).
| Approximately 140 feet upstream of West Thompson Avenue | None | +418
Clear Creek Tributary | Confluence with Clear Creek | None | +405 | City of Earlington.
| Approximately 50 feet downstream of Loch Mary Reservoir | None | +422
Elk Creek | Confluence with Pond River | None | +387 | Hopkins County (Unincorporated Areas).
| Approximately 8600 feet downstream of Brown Road | None | +387
| Approximately 750 feet downstream of Island Ford Road | None | +406
| Approximately 320 feet downstream of Fowler Road | None | +412
Tributary 10.5 | Approximately 100 feet upstream of confluence with Elk Creek Tributary 5.1 | None | +403 | City of Madisonville, Hopkins County (Unincorporated Areas).
| Approximately 450 feet upstream of Island Park Drive | None | +425
Tributary 4 | Confluence with Elk Creek | None | +412 | City of Madisonville, Hopkins County (Unincorporated Areas).
| Approximately 120 feet downstream of Stagecoach Road | None | +439
Tributary 5.1 | Approximately 1660 feet downstream of McGrew Lane | None | +400 | City of Madisonville, Hopkins County (Unincorporated Areas).
| Approximately 170 feet upstream of Edward T. Breathitt Parkway | None | +426
Otter Creek | Confluence with Pond River | None | +387 | Hopkins County (Unincorporated Areas).
| Approximately 5300 feet upstream of Vandetta Road | *386 | +387
Pleasant Run | Approximately 580 feet downstream of North Hopkinsville Street | None | +406 | City of Nortonville.
| Approximately 1550 feet upstream of Seaboard System Railroad | None | +411
Pond River | Confluence with Otter Creek | None | +387 | Hopkins County (Unincorporated Areas).
| Approximately 14,570 feet upstream of Anton Road | None | +387
* National Geodetic Vertical Datum.
# Depth in feet above ground.
+ North American Vertical Datum.
ADDRESSES
City of Earlington
Maps are available for inspection at 56 North Main Street, Madisonville, KY 42431.
Send comments to The Honorable Michael Seiber, Mayor, City of Earlington, 103 West Main Street, Earlington, KY 42410.
City of Madisonville
Maps are available for inspection at 56 North Main Street, Madisonville, KY 42431.
Send comments to The Honorable William Cox, Jr., Mayor, City of Madisonville, 37 East Center Street, Madisonville, KY 42431.
City of Nortonville
Maps are available for inspection at 56 North Main Street, Madisonville, KY 42431.
Send comments to The Honorable James Noel, Mayor, City of Nortonville, 199 South Main Street, Nortonville, KY 42442.
Hopkins County (Unincorporated Areas)
Maps are available for inspection at 56 North Main Street, Madisonville, KY 42431.
Send comments to The Honorable Donald Carroll, Judge Executive, Hopkins County, Hopkins County Government Building, P.O. Box 523, Madisonville, KY 42431.
Webb County, Texas and Incorporated Areas
Chacon Creek | Confluence with Rio Grande | *387 | +394 | City of Laredo, Webb County (Unincorporated Areas).
| Approximately 2000 feet downstream from confluence with Casa Blanca Lake | None | +453
Tributary 1 | Confluence with Chacon Creek | *387 | +394 | City of Laredo.
| Approximately 250 feet upstream from intersection with Chestnut | *429 | +422
Tributary 2 | Confluence with Chacon Creek | *396 | +394 | City of Laredo, Webb County (Unincorporated Areas).
| Approximately 1500 feet downstream from Loop 20 | None | +398
Tributary 3 | Confluence with Chacon Creek | None | +436 | City of Laredo, Webb County (Unincorporated Areas).
| Approximately 2500 feet upstream from the intersection with Highway 59 | None | +444
Deer Creek | Confluence with Rio Grande | None | +411 | City of Laredo.
| Intersection with Logistic Road | None | +476
Dellwood Tributary (Previously Las Manadas Creek Tributary 1) | Confluence with Las Manadas Creek | *402 | +410 | City of Laredo, Webb County (Unincorporated Areas).
| Approximately 2000 feet upstream from intersection with FM 3464 | None | +486
Las Manadas Creek | Confluence with Rio Grande | *402 | +408 | City of Laredo, Webb County (Unincorporated Areas).
| Approximately 1750 feet upstream from intersection with Loop 20 | None | +552
Tributary 1 | Confluence with Las Manadas Creek | *403 | +412 | City of Laredo, Webb County (Unincorporated Areas).
| Approximately 200 feet upstream from Springfield Drive | None | +468
Tributary 1A | Confluence with Las Manadas Creek Tributary 1 | None | +430 | City of Laredo.
| Approximately 1200 feet upstream from Dover/Stratford | None | +464
Tributary 2 (Formerly Las Manadas Creek Tributary 3) | Confluence with Las Manadas Creek | *411 | +418 | City of Laredo, Webb County (Unincorporated Areas).
| Approximately 5050 feet upstream from intersection with FM 3464 | None | +489
Tributary 2A | Confluence with Las Manadas Creek Tributary 2 | None | +447 | City of Laredo.
| Approximately 3225 feet upstream from confluence with Las Manadas Creek Tributary 2 | None | +459
Rio Grande | Approximately 1750 feet upstream from intersection with Riverhill Road | None | +391 | City of Laredo, Webb County (Unincorporated Areas).
| Confluence with Deer Creek | None | +411
Tex-Mex Railroad Tributary | Confluence with Chacon Creek | *402 | +400 | City of Laredo, Webb County (Unincorporated Areas).
| Approximately 1250 feet upstream from intersection with Tex-Mex Railroad | None | +423
Zacate Creek | Approximately 250 feet downstream from the intersection with Mexican Railroad | *395 | +396 | City of Laredo.
| Confluence with Rio Grande | *388 | +399
* National Geodetic Vertical Datum.
# Depth in feet above ground.
+ North American Vertical Datum.
ADDRESSES
City of Laredo
Maps are available for inspection at 1120 San Bernardo, Laredo, TX 78042.
Send comments to The Honorable Raul G. Salinas, Mayor, City of Laredo, 1110 Houson Street, Laredo, TX 78040.
Webb County (Unincorporated Areas)
Maps are available for inspection at 1110 Washington Street, Suite 302, Laredo, TX 78040.
Send comments to The Honorable Danny Valdez, County Judge, 1000 Houston, 3rd Flood, Webb County Courthouse, Laredo, TX 78040.
Clark County, Washington and Incorporated Areas
Burnt Bridge Creek | Just upstream of Interstate 205 | *189 | +192 | Clark County (Unincorporated Areas).
| Approximately 1200 feet upstream of NE 152nd Avenue | *196 | +200 | City of Vancouver.
China Ditch | Just upstream of NE Ward Road | None | +252 | Clark County (Unincorporated Areas).
| Approximately 2200 feet upstream of NE 144th Street | None | +275
Curtin Creek (Glenwood Creek) | At confluence with Salmon Creek | None | +172 | Clark County (Unincorporated Areas).
| Just upstream of Anderson Road | None | +260
Dead Lake | Near NE Everett Street/WA State Hwy 500 | None | +191 | Clark County (Unincorporated Areas).
| Near NE Lake Road | None | +191
Fifth Plain Creek | Upstream side of NE 4th Plain Boulevard | None | +215 | Clark County (Unincorporated Areas).
| About 0.7 mile above NE Davis Road | None | +342 | City of Vancouver.
Gee Creek | About 0.14 mile upstream of Main Street, at N Main Avenue in Ridgefield | *25 | +27 | Clark County (Unincorporated Areas).
| Approximately 0.5 mile upstream of Interstate 5 | None | +315 | Town of Ridgefield.
Lacamas Creek | At confluence with Washougal River | None | +35 | Clark County (Unincorporated Areas).
| Just downstream of NE Goodwin Road | None | +193 | City of Camas.
Lacamas Lake | At SE Everett Road/WA State Hwy 500 | None | +191 | Clark County (Unincorporated Areas).
| At NE 232nd Avenue/NE Leadbetter Road | None | +191
Mill Creek | At confluence with Salmon Creek | None | +137 | Clark County (Unincorporated Areas).
| Just downstream of NW 20th Avenue | None | +279 | City of Battle Ground.
Weaver Creek | At confluence with Salmon Creek | None | +210 | Clark County (Unincorporated Areas).
| Approximately 400 feet west of NE 167th Avenue | None | +345 | City of Battle Ground.
* National Geodetic Vertical Datum.
# Depth in feet above ground.
+ North American Vertical Datum.
ADDRESSES
City of Battle Ground
Maps are available for inspection at 109 Southwest First Street, Suite 127, Battle Ground, WA 98604-2818.
Send comments to The Honorable John Idsinga, Mayor, City of Battle Ground, 109 Southwest First Street, Suite 220, Battle Ground, WA 98604.
City of Camas
Maps are available for inspection at 616 Northeast Fourth Avenue, Camas, WA 98607.
Send comments to The Honorable Paul Dennis, Mayor, City of Camas, 616 Northeast Fourth Avenue, Camas, WA 98607.
City of Vancouver
Maps are available for inspection at c/o Chad Eiken, 313 Main Street, Vancouver, WA 98665.
Send comments to The Honorable Royce Pollard, Mayor, City of Vancouver, 210 East 13th Street, Vancouver, WA 98668.
Town of Ridgefield
Maps are available for inspection at 127 North Main Avenue, Ridgefield, WA 98642.
Send comments to The Honorable Gladys Doriot, Mayor, City of Ridgefield, P.O. Box 608, Ridgefield, WA 98642.
Clark County (Unincorporated Areas)
Maps are available for inspection at 1300 Franklin Street, Third Floor, Vancouver, WA 98666-8810.
Send comments to The Honorable Bill Barron, County Administrator, Clark County, P.O. Box 5000, Vancouver, WA 98666-5000.

(Catalog of Federal Domestic Assistance No. 83.100, “Flood Insurance.”)

Dated: March 1, 2007.
David I. Maurstad,
Director, Mitigation Division, Federal Emergency Management Agency, Department of Homeland Security.

[FR Doc. E7-4153 Filed 3-7-07; 8:45 am]

BILLING CODE 9110-12-P